DEPARTMENT OF ENERGY

Federal Energy Regulatory Commission

Combined Notice of Filings #1

Take notice that the Commission received the following electric corporate filings:

Docket Numbers: EC15-31-000.

Applicants: Tucson Electric Power Company.

Description: Application Pursuant to Section 203 of the Federal Power Act and Request for Expedited Consideration of Tucson Electric Power Company.

Filed Date: 11/12/14.

Accession Number: 20141112-5453.

Comments Due: 5 p.m. ET 12/3/14.

Take notice that the Commission received the following electric rate filings:

Docket Numbers: ER10-1511-005; ER10-2231-004; ER10-1714-005; ER10-2011-007.

Applicants: Kentucky Utilities Company, LG&E Energy Marketing Inc., PPL EnergyPlus LLC, Louisville Gas and Electric Company.

Description: Second Supplement to June 30, 2014 Triennial Market Power Update of the PPL Southeast Companies.

Filed Date: 11/13/14.

Accession Number: 20141113-5140.

Comments Due: 5 p.m. ET 12/4/14.

Docket Numbers: ER10-1838-007; ER13-752-006; ER10-1899-007; ER10-1903-007; ER10-1902-007; ER14-1630-004; ER10-1967-007; ER10-1968-007; ER11-4462-011; ER10-1971-018; ER10-1951-008; ER10-1975-016; ER10-1986-007; ER10-1990-007; ER10-1993-007.

Applicants: Backbone Mountain Windpower LLC, Energy Storage Holdings, LLC, FPL Energy Illinois Wind, LLC, FPL Energy MH50, L.P., FPL Energy Marcus Hook, L.P., Mantua Creek Solar, LLC, Meyersdale Windpower LLC, Mill Run Windpower, LLC, NEPM II, LLC, NextEra Power Marketing, LLC, NextEra Energy Services Massachusetts, LLC, North Jersey Energy Associates, A Limited Partnership, Pennsylvania Windfarms, Inc., Somerset Windpower, LLC, Waymart Wind Farm L.P.

Description: Notification of Change in Status of NextEra Resources Entities under ER10-1838, et al.

Filed Date: 11/12/14.

Accession Number: 20141112-5456.

Comments Due: 5 p.m. ET 12/3/14.

Docket Numbers: ER10-2253-012; ER10-3319-016.

Applicants: Astoria Energy LLC, Astoria Energy II LLC.

Description: Notice of Non-material Change in Status of Astoria Energy LLC and Astoria Energy II LLC.

Filed Date: 11/13/14.

Accession Number: 20141113-5105.

Comments Due: 5 p.m. ET 12/4/14.

Docket Numbers: ER10-2651-003.

Applicants: Lockhart Power Company.

Description: Supplement to June 30, 2014 Southeast Triennial Update of Lockhart Power Company.

Filed Date: 10/9/14.

Accession Number: 20141009-5258.

Comments Due: 5 p.m. ET 11/28/14.

Docket Numbers: ER12-569-007; ER13-712-006; ER10-1849-006; ER11-2037-006; ER12-2227-006; ER10-1887-006; ER10-1920-008; ER10-1928-008; ER10-1952-006; ER10-1961-006; ER12-1228-008; ER14-2707-002; ER10-2720-008; ER11-4428-008; ER12-1880-007; ER12-895-006; ER14-2710-002; ER14-2708-003; ER14-2709-002; ER13-2474-002; ER10-1971-019.

Applicants: Blackwell Wind, LLC, Cimarron Wind Energy, LLC, Elk City Wind, LLC, Elk City II Wind, LLC, Ensign Wind, LLC, FPL Energy Cowboy Wind, LLC, FPL Energy Oklahoma Wind, LLC, FPL Energy Sooner Wind, LLC, Gray County Wind Energy, LLC, High Majestic Wind Energy Center, LLC, High Majestic Wind II, LLC, Mammoth Plains Wind Project, LLC, Minco Wind, LLC, Minco Wind II, LLC, Minco Wind III, LLC, Minco Wind Interconnection Services, LLC, Palo Duro Wind Energy, LLC, Seiling Wind, LLC, Seiling Wind II, LLC, Steel Flats Wind Project, LLC, NextEra Power Marketing, LLC.

Description: Notification of Change in Status of NextEra Resources Entities under ER12-569, et al.

Filed Date: 11/12/14.

Accession Number: 20141112-5459.

Comments Due: 5 p.m. ET 12/3/14.

Docket Numbers: ER14-2542-001.

Applicants: Emera Maine.

Description: Compliance filing per 35: Amended Order No. 792 Compliance Filing to be effective 1/13/2015.

Filed Date: 11/13/14.

Accession Number: 20141113-5100.

Comments Due: 5 p.m. ET 12/4/14.

Docket Numbers: ER14-2705-001.

Applicants: PJM Interconnection, L.L.C.

Description: Compliance filing per 35: Compliance Filing per 10/31/2014 Order in Docket No. ER14-2705-000 to be effective 11/1/2014.

Filed Date: 11/13/14.

Accession Number: 20141113-5102.

Comments Due: 5 p.m. ET 12/4/14.

Docket Numbers: ER15-70-000.

Applicants: Erie Power, LLC.

Description: Second Supplement to October 9, 2014 Erie Power, LLC tariff filing.

Filed Date: 11/6/14.

Accession Number: 20141106-5025.

Comments Due: 5 p.m. ET 11/20/14.

Docket Numbers: ER15-301-000.

Applicants: Puget Sound Energy, Inc.

Description: Tariff Cancellation per 35.17(a): Port of Seattle NITSA No 484—Withdrawal to be effective N/A.

Filed Date: 11/13/14.

Accession Number: 20141113-5141.

Comments Due: 5 p.m. ET 12/4/14.

Docket Numbers: ER15-394-000.

Applicants: DTE Electric Company.

Description: DTE Electric Company Notice of Termination of Must Run Agreement.

Filed Date: 11/13/14.

Accession Number: 20141113-5061.

Comments Due: 5 p.m. ET 12/4/14.

Docket Numbers: ER15-395-000.

Applicants: CL Power Sales Eight, L.L.C.

Description: § 205(d) rate filing per 35.13(a)(2)(iii): Revised Market-Based Rate Tariff to be effective 11/14/2014.

Filed Date: 11/13/14.

Accession Number: 20141113-5069.

Comments Due: 5 p.m. ET 12/4/14.

Docket Numbers: ER15-396-000.

Applicants: PJM Interconnection, L.L.C.

Description: § 205(d) rate filing per 35.13(a)(2)(iii): Original Service Agreement No. 4041; Queue W3-160 to be effective 10/22/2014.

Filed Date: 11/13/14.

Accession Number: 20141113-5097.

Comments Due: 5 p.m. ET 12/4/14.

Docket Numbers: ER15-397-000.

Applicants: PJM Interconnection, L.L.C.

Description: § 205(d) rate filing per 35.13(a)(2)(iii): Original Service Agreement No. 4042; Queue Y3-109 to be effective 10/27/2014.

Filed Date: 11/13/14.

Accession Number: 20141113-5108.

Comments Due: 5 p.m. ET 12/4/14.

Docket Numbers: ER15-398-000.

Applicants: Saja Energy LLC.

Description: Tariff Withdrawal per 35.15: Notice of cancellation to be effective 11/14/2014.

Filed Date: 11/13/14.

Accession Number: 20141113-5114.

Comments Due: 5 p.m. ET 12/4/14.

Docket Numbers: ER15-399-000.

Applicants: Midcontinent Independent System Operator, Inc.

Description: § 205(d) rate filing per 35.13(a)(2)(iii): 2014-11-13 Attachment X Study Deposits filing to be effective 11/14/2014.

Filed Date: 11/13/14.

Accession Number: 20141113-5139.

Comments Due: 5 p.m. ET 12/4/14.

Docket Numbers: ER15-400-000.

Applicants: Midcontinent Independent System Operator, Inc.

Description: § 205(d) rate filing per 35.13(a)(2)(iii): 2014-11-13 Schedule 44 reconcile to Schedule 46 Filing to be effective 3/1/2015.

Filed Date: 11/13/14.

Accession Number: 20141113-5181.

Comments Due: 5 p.m. ET 12/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2014.
Nathaniel J. Davis, Sr.,
Deputy Secretary.

[FR Doc. 2014-27945 Filed 11-25-14; 8:45 am]

BILLING CODE 6717-01-P